DEPARTMENT OF AGRICULTURE

Rural Business-Cooperative Service

Rural Utilities Service

Notice of Funds Availability (NOFA) Inviting Applications for the Biorefinery Assistance Program

AGENCY: Rural Business-Cooperative Service and Rural Utilities Service, USDA.

ACTION: Notice on funding availability.

SUMMARY: This notice announces the acceptance of applications for funds available under the Biorefinery Assistance Program (the “Program”) to provide guaranteed loans for the development and construction of commercial-scale biorefineries or for the retrofitting of existing facilities using eligible technology for the development of advanced biofuels. For Fiscal Year 2011, there is only one round of competition. Applications must be received by May 10, 2011 to compete for Fiscal Year 2011 program funds. The Notice announces the availability of approximately $129 million in mandatory budget authority to support guaranteed loans under this Program in Fiscal Year 2011, in addition to any carry-over funds from Fiscal Year 2010. This budget authority represents approximately $463 million in program funds.

DATES: Applications must be received in the USDA Rural Development National Office no later than 4:30 p.m. local time on May 10, 2011, to compete for Fiscal Year 2011 program funds. Any application received after 4:30 p.m. local time on May 10, 2011, regardless of the application's postmark, will not be considered for Fiscal Year 2011 program funds. If the actual deadline falls on a weekend or a Federally-observed holiday, the deadline is the next Federal business day.

ADDRESSES: Applications and forms may be obtained from:

• U.S. Department of Agriculture, Rural Development, Energy Branch, Attention: BioRefinery Assistance Program, 1400 Independence Avenue, SW., STOP 3225, Washington, DC 20250-3225.

• Agency Web site: http://www.rurdev.usda.gov/BCP_Biorefinery.html. Follow instructions for obtaining the application and forms.

Submit an original completed application with two copies to USDA's Rural Development National Office: Energy Branch, Attention: BioRefinery Assistance Program, 1400 Independence Avenue, SW., STOP 3225, Washington, DC 20250-3225.

FOR FURTHER INFORMATION CONTACT: Kelley Oehler, Energy Branch, Biorefinery Assistance Program, U.S. Department of Agriculture, 1400 Independence Avenue, SW., Mail Stop 3225, Washington, DC 20250-3225. Telephone: 202-720-6819. E-mail: kelley.oehler@wdc.usda.gov.

SUPPLEMENTARY INFORMATION:

Paperwork Reduction Act

The information collection requirements contained in the Notice of Funding Availability for the Section 9003 Biorefinery Assistance Guaranteed Loan Program published on November 28, 2008, were approved by the Office of Management Budget (OMB) under emergency clearance procedures and assigned OMB Control Number 0570-0055. As noted in the November 28, 2008 notice, the Agency sought emergency clearance to comply with the time frames mandated by a Presidential Memorandum in order to implement the Program as quickly as possible, and that providing for public comment under the normal procedure would unduly delay the provision of benefits associated with this Program and be contrary to the public interest. Now, however, in accordance with the Paperwork Reduction Act of 1995, the Agency is seeking standard OMB approval of the reporting and recordkeeping requirements contained in the interim rule. In the publication of the proposed rule on April 16, 2010, the Agency solicited comments on the estimated burden. The Agency received one comment in response to this solicitation. This information collection requirement will not become effective until approved by OMB. Upon approval of this information collection, the Agency will publish a notice in the Federal Register.

Overview

Federal Agency Name: Rural Business-Cooperative Service (an agency of the United States Department of Agriculture in the Rural Development mission area).

Solicitation Opportunity Title: Biorefinery Assistance Program.

Announcement Type: Initial announcement.

Catalog of Federal Domestic Assistance Number. The CFDA number for this Notice is 10.865.

Dates: Complete applications must be received in the USDA Rural Development National Office no later than 4:30 p.m. local time on May 10, 2011, in order to be considered for Fiscal Year 2011 program funds. Any application received after 4:30 p.m. local time on May 10, 2011, regardless of the application's postmark, will not be considered for Fiscal Year 2011 program funds.

Availability of Notice and Rule. This Notice and the interim rule for the Biorefinery Assistance Program are available on the USDA Rural Development Web site at http://www.rurdev.usda.gov/BCP_Biorefinery.html.

I. Funding Opportunity Description

A. Purpose of the Program. The purpose of this Program is to assist in the development and construction of commercial-scale biorefineries and the retrofitting of existing facilities using eligible technology for the development of advanced biofuels. The Agency will make guarantees available on loans for eligible projects that will provide for the development, construction, and/or retrofitting of commercial biorefineries using eligible technology, as defined in 7 CFR 4279.202(a).

B. Statutory Authority. This Program is authorized under Section 9003 of the Farm Security and Rural Investment Act of 2002 (FSRIA) (as amended by Section 9001 of the Food, Conservation, and Energy Act of 2008 (2008 Farm Bill)). Regulations are contained in 7 CFR Part 4279, subpart C and in 7 CFR Part 4287, subpart D.

C. Definition of Terms. The definitions applicable to this Notice are published at 7 CFR 4279.202(a) and 7 CFR 4287.302.

For the purposes of this Notice, a local owner is defined as “An individual who owns any portion of an eligible advanced biofuel biorefinery and whose primary residence is located within 50 miles of the biorefinery.”

II. Award Information

A. Type of Award: Guaranteed loan.

B. Fiscal Year Funds: FY 2011.

C. Funding Availability: This Notice provides approximately $129 million in mandatory budget authority for this Program in Fiscal Year 2011 to support loan guarantees, in addition to any carry-over funds from Fiscal Year 2010. This budget authority represents approximately $463 million in program funds, subject to the loan characteristics of the loan applications received.

D. Approximate Number of Awards: 4-5.

E. Guaranteed loan funding: The provisions of 7 CFR part 4279.229 apply to this Notice. The borrower needs to provide the remaining funds from other non-Federal sources to complete the project.

F. Guarantee and annual renewal fees. The guarantee and annual renewal fees specified in 7 CFR 4279.226 are applicable to this Notice.

G. Anticipated Award Date: September 30, 2011.

III. Eligibility Information

A. Eligible lenders. To be eligible for this Program, lenders must meet the eligibility requirements in 7 CFR 4279.202(c).

B. Eligible borrowers. To be eligible for this Program, borrowers must meet the eligibility requirements in 7 CFR 4279.227.

C. Eligible projects. To be eligible for this Program, projects must meet the eligibility requirements in 7 CFR 4279.228.

D. Application completeness. Incomplete applications will be rejected. Lenders will be informed of the elements that made the application incomplete. If a resubmitted application is received in the USDA Rural Development's National Office by 4:30 p.m. May 10, 2011, the Agency will reconsider the application for Fiscal Year 2011 program funds.

IV. Fiscal Year 2011 Application and Submission Information

A. Application submittal. The lender must submit a separate application for each project for which a loan guarantee is sought under this Notice. It is recommended that applicants refer to the application guide for this program (“Instructions for Application for Loan Guarantee—Section 9003 BioRefinery Assistance Loan Guarantees”), which can be found on the Agency's Web site at http://www.rurdev.usda.gov/BCP_Biorefinery.html.

B. Content and form of submission. Approved lenders must submit an Agency-approved application form for each loan guarantee sought under this Notice. Loan guarantee applications from approved lenders must contain the information specified in 7 CFR 4279.261(a) through (n), organized pursuant to a table of contents in a chapter format, and in 7 CFR 4279.261(o) as applicable.

C. Submission dates and times. The original complete application must be received by the USDA Rural Development National Office no later than 4:30 p.m. local time by May 10, 2011, regardless of the postmark date, in order to be considered for Fiscal Year 2011 program funds. If the actual deadline falls on a weekend or a Federally-observed holiday, the deadline is the next Federal business day.

D. Application withdrawal. During the period between the submission of an application under this Notice and the execution of documents, the lender must notify the Agency, in writing, if the project is no longer viable or the borrower is no longer requesting financial assistance for the project. When the lender so notifies the Agency, the selection will be rescinded or the application withdrawn.

V. General Program Information

A. Loan origination. Lenders seeking a loan guarantee under this Notice must comply with the provisions found in 7 CFR 4279.202.

B. Loan processing. The Agency will process loans guaranteed under this Notice in accordance with the provisions specified in 7 CFR 4279.224 through 4279.290.

For Fiscal Year 2011, refinancing, according to the provisions of 7 CFR 4279.228(g), is an eligible project cost under 7 CFR 4279.229(e).

C. Evaluation of applications and awards. Awards under this Notice will be made on a competitive basis; submission of an application neither reserves funding nor ensures funding. The Agency will evaluate each complete application received in the USDA Rural Development National Office and will make awards using the provisions specified in 7 CFR 4279.265(a) through (f).

A ranked application that is competed, but is not funded, will be carried forward to Fiscal Year 2012 to compete in the first competition in Fiscal Year 2012.

In all instances in which a ranked application is not funded, the Agency will notify the lender in writing. If an application has been selected for funding, but has not been funded because additional information is needed, the Agency will notify the lender of what information is needed, including a timeframe for the lender to provide the information. If the lender does not provide the information within the specified timeframe, the Agency will remove the application from further consideration and will so notify the lender.

D. Guaranteed loan servicing. The Agency will service loans guaranteed under this Notice in accordance with the provisions specified in 7 CFR 4287.301 through 4287.307.

E. Transfers and assumptions. The transfer fee rate for all transfers and assumptions that occur during Fiscal Year 2011 is 1 percent. The transfer fee will be equal to the transfer fee rate multiplied by the outstanding principal loan balance as of the date of the transfer multiplied by the percent of guarantee.

VI. Administration Information

A. Notifications. The Agency will notify, in writing, lenders whose applications have been selected for funding. If the Agency determines it is unable to guarantee the loan, the lender will be informed in writing. Such notification will include the reasons for denial of the guarantee.

B. Administrative and National Policy requirements.

1. Review or appeal rights. A person may seek a review of an Agency decision or appeal to the National Appeals Division in accordance with 7 CFR 4279.16.

2. Exception authority. The provisions specified in 7 CFR 4279.202(b) and 7 CFR 4287.303 apply to this Notice.

C. Environmental review. The Agency has reviewed the types of applicant proposals that may qualify for assistance under this section and has determined, in accordance with 7 CFR Part 1940-G, that all proposals shall be reviewed as a Class II Environmental Assessment (EA) as the development of new and emerging technologies would not meet the classification of a Categorical Exclusion (CE) in accordance with 7 CFR 1940.310 or a Class I EA in accordance with 7 CFR 1940.311. Furthermore, if after Agency review of proposals the Agency has determined that the proposal could result in significant environmental impacts on the quality of the human environment, an Environmental Impact Statement may be required pursuant to 7 CFR 1940.313.

VII. Agency Contacts

For general questions about this Notice, please contact Kelley Oehler, Energy Branch, Biorefinery Assistance Program, U.S. Department of Agriculture, 1400 Independence Avenue, SW., Mail Stop 3225, Washington, DC, 20250-3225. Telephone: 202-720-6819. E-mail: kelley.oehler@wdc.usda.gov.

Nondiscrimination Statement

The U.S. Department of Agriculture (USDA) prohibits discrimination in all its programs and activities on the basis of race, color, national origin, age, disability, and, where applicable, sex, marital status, familial status, parental status, religion, sexual orientation, genetic information, political beliefs, reprisal, or because all or part of an individual's income is derived from any public assistance program. (Not all prohibited bases apply to all programs.) Persons with disabilities who require alternative means for communication of program information (Braille, large print, audiotape, etc.) should contact USDA's TARGET Center at (202) 720-2600 (voice and TDD).

To file a complaint of discrimination write to USDA, Director, Office of Adjudication and Compliance, 1400 Independence Avenue SW., Washington, DC 20250-9410 or call (800) 795-3272 (voice) or (202) 720-6382 (TDD). USDA is an equal opportunity provider, employer, and lender.

Dated: March 7, 2011.
Cheryl L. Cook,
Acting Under Secretary, Rural Development.

[FR Doc. 2011-5575 Filed 3-10-11; 8:45 am]

BILLING CODE 3410-XY-P